DEPARTMENT OF THE INTERIOR

Fish and Wildlife Service

[FWS-R2-R-2012-N142; FXRS12610200000S3-123-FF02R06000]

Attwater Prairie Chicken National Wildlife Refuge, Austin and Colorado Counties, TX; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and finding of no significant impact (FONSI) for the environmental assessment (EA) for the Attwater Prairie Chicken National Wildlife Refuge (Refuge, NWR). In this final CCP, we describe how we will manage this Refuge for the next 15 years.

ADDRESSES: You may view or obtain copies of the final CCP and FONSI/EA by any of the following methods. You may request a hard copy or CD-ROM.

Agency Web Site: Download a copy of the documents at http://www.fws.gov/southwest/refuges/Plan/planindex.html.

Email: monica_kimbrough@fws.gov. Include “Attwater Prairie Chicken NWR final CCP” in the subject line of the message.

Mail: Monica Kimbrough, Natural Resource Planner, U.S. Fish and Wildlife Service, Division of Planning, P.O. Box 1306, Albuquerque, NM 87103-1306.

In-Person Viewing or Pickup: Call 505-248-6642 to make an appointment during regular business hours at 500 Gold Avenue SW., Albuquerque, NM 87102 or the Attwater Prairie Chicken NWR Headquarters, 1206 APC NWR Road, Eagle Lake, TX 77434; phone: (979) 234-3021.

FOR FURTHER INFORMATION CONTACT: Terry Rossignol, Refuge Manager, Attwater Prairie Chicken NWR, CCP—Project, P.O. Box 519, Eagle Lake, TX 77434; phone: (979) 234-3021; fax: (979) 234-3278.

SUPPLEMENTARY INFORMATION:

Introduction

With this notice, we finalize the CCP process for Attwater Prairie Chicken NWR. We started this process through a notice in the Federal Register (73 FR 65871; November 5, 2008). We released the draft CCP and the EA to the public, announcing and requesting comments in a notice of availability in the Federal Register (76 FR 77245; December 12, 2011).

The Attwater Prairie Chicken NWR, which consists of 10,541 acres located approximately 60 miles west of Houston, Texas, is one of the largest remnants of coastal prairie habitat remaining in southeast Texas. The Refuge was officially established on July 1, 1972, to preserve and restore coastal prairie habitat for the endangered Attwater's prairie-chicken (Tympanuchus cupido attwateri).

We announce our decision and the availability of the FONSI for the final CCP for Attwater Prairie Chicken NWR in accordance with National Environmental Policy Act (NEPA) (40 CFR 1506.6(b)) requirements. We completed a thorough analysis of impacts on the human environment, which we included in the EA that accompanied the draft CCP.

The CCP will guide us in managing and administering Attwater Prairie Chicken NWR for the next 15 years. Alternative B, as we described in the final CCP, is the foundation for the CCP.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

CCP Alternatives, Including Selected Alternative

Our draft CCP and our EA (76 FR 77245; December 12, 2011) addressed several issues. To address these, we developed and evaluated the following alternatives.

Issue topic | A—No action alternative | B—Optimal habitat management and public use (proposed action) alternative | C—Maximal habitat management and public use alternative
Habitat Management Issue 1: Prairie Restoration | Combination of planting native grasses, grazing, burning, hydrologic restoration | Same as Alternative A; plus explore partnership options to produce native grass seed to increase the number of restoration acres; expand monitoring for grazing and burning effects; remove infrastructure, including two manmade wetland impoundments, restoring a functional level of hydrology | Same as Alternative B; except establish seed harvest and production on the Refuge; grazing bison only.
Habitat Management Issue 2: Land/Property Acquisition | Acquire acres within approved acquisition boundary; not proactively seeking out additional land protection options | Continue to acquire land within acquisition boundary, proactively seek out land protection options and diversify those options | Same as Alternative B.
Habitat Management Issue 3: Invasive Species Control (Flora) | Treatments include a combination of chemical, mechanical, and prescribed fire | Same as Alternative A; plus conduct one-time systematic chemical invasive species control for entire refuge, unit by unit; afterward, treatment is expected to be required every 2-3 years as invasive species re-establish | Same as Alternative B.
Wildlife Management Issue 1: Attwater's Prairie-Chicken Recovery | Continue to implement Attwater's Prairie-Chicken Recovery Plan | Same as Alternative A | Same as Alternative A.
Wildlife Management Issue 2: Invasive Species Control (Fauna) | Eliminate feral hogs and nutria based on sighting and/or documented damage; treat nest sites and conduct research on impacts of red imported fire ants on insect community | Same as Alternative A; plus work with adjacent land owners to control feral hog population; remove brush and other elements of hog movement corridors; depending on results of current research of red imported fire ants, expand treated area to full extent of refuge and work with adjacent landowners to expand treatment off refuge | Same as Alternative B.
Wildlife Management Issue 3: Wildlife Food Plots (Farming Program) | Manage three food plots totaling up to 150 acres | Same as Alternative A; plus explore additional ways to provide supplemental food to Attwater's prairie-chicken, including capability to irrigate and addition of food plots when the species' populations expand | Eliminate wildlife food plots.
Visitor Services Issue 1: Wildlife Observation and Wildlife Photography | Provide wildlife observation and photography to include auto-tour route and two hiking trails | Same as Alternative A; plus realign auto-tour route; exclude cattle from public hiking trails; establish a new platform and hiking trail around Horseshoe Lake; remove Pipit Trail; increase guided van tours | Same as Alternative B.
Visitor Services Issue 2: Environmental Education | Provide environmental education as requested and as staff time permits | Develop an environmental education program and promote in local school districts | Develop an outdoor classroom through partnerships with local schools, volunteers, and friends group.
Visitor Services Issue 3: Interpretation | Host annual Attwater's Prairie-Chicken Festival; interpretive signage at headquarters and along auto-tour route | Same as Alternative A; plus add interpretive signage and kiosk to new auto-tour route and new trail; expand interpretive opportunities using recent technologies | Same as Alternative B.
Facilities Issue 1: Roads | Cooperate with county maintenance personnel for refuge entrance road, and maintain other refuge roads | Same as Alternative A; plus acquire jurisdiction and maintenance responsibilities of existing refuge entrance road and widen to two full lanes; bury powerline along entrance road; evaluate and remove services roads where necessary | Same as Alternative B.
Facilities Issue 2: Development of Administrative Complex | Administrative operations conducted out of three portable structures | Develop and approve site plan for new integrated administrative complex | Same as Alternative B.

Comments

We solicited comments on the draft CCP and the EA for the Attwater Prairie Chicken NWR from December 12, 2011, to January 23, 2012 (76 FR77245). The public was notified of the release of the draft CCP and the EA through the NOA, through local media outlets, and public notices were posted on various community bulletin boards. The draft CCP and EA were made available, online, at the Regional Office in Albuquerque, at the Refuge, and at three public libraries in surrounding communities. A public open house meeting was held on January 14, 2012. The Service received four comment letters. The comments were thoroughly reviewed and the CCP did not change substantially based on public comment.

Selected Alternative

After considering the comments we received, we have selected Alternative B for implementation. Alternative B was selected over the other alternatives because it best meets the Refuge's vision for the future, the purposes for which the Refuge was established, and the habitat, wildlife and visitor services goals identified in the CCP. This alternative is the basis for the CCP and describes how habitat objectives will be accomplished through a combination of management activities to encourage ecological integrity, control invasive species, improve or maintain habitats, and most importantly support recovery of the Attwater's prairie-chicken. Opportunities for wildlife-dependent recreation activities will be enhanced. Future management actions will have a neutral or positive impact on the local economy and the recommendations in the CCP will ensure that Refuge management is consistent with the mission of the National Wildlife Refuge System and U.S. Fish and Wildlife Service.

Public Availability of Documents

In addition to the methods in ADDRESSES, you can view or obtain documents at the following locations:

• At the following libraries:

Library | Address | Phone number
Eula and David Wintermann Library | 101 North Walnut Ave., Eagle Lake, TX 77434 | 979-234-5411
Nesbitt Memorial Library | 529 Washington Street, Columbus, TX 78934 | 979-732-3392
Virgil and Josephine Gordon Memorial Library | 917 North Circle Dr., Sealy, TX 77474 | 979-885-7469

Dated: August 3, 2012.
Joy E. Nicholopoulos,
Acting Regional Director, Southwest Region.

[FR Doc. 2012-19538 Filed 8-8-12; 8:45 am]

BILLING CODE 4310-55-P